DEPARTMENT OF ENERGY

Federal Energy Regulatory Commission

Combined Notice of Filings #1

Take notice that the Commission received the following electric corporate filings:

Docket Numbers: EC20-37-000.

Applicants: Nevada Power Company, Sierra Pacific Power Company.

Description: Joint Application for Authorization Under Section 203 of the Federal Power Act, et al. of Nevada Power Company, et al.

Filed Date: 2/13/20.

Accession Number: 20200213-5200.

Comments Due: 5 p.m. ET 3/5/20.

Docket Numbers: EC20-38-000.

Applicants: Astoria Energy LLC, Astoria Energy II LLC.

Description: Application for Authorization Under Section 203 of the Federal Power Act, et al. of Astoria Energy LLC, et al.

Filed Date: 2/14/20.

Accession Number: 20200214-5141.

Comments Due: 5 p.m. ET 3/6/20.

Take notice that the Commission received the following electric rate filings:

Docket Numbers: ER10-1651-004.

Applicants: Golden State Water Company.

Description: Amendment to June 29, 2019 Updated Market Power Analysis for the Southwest Region of Golden State Water Company.

Filed Date: 2/13/20.

Accession Number: 20200213-5192.

Comments Due: 5 p.m. ET 3/5/20.

Docket Numbers: ER19-1507-005.

Applicants: Duke Energy Carolinas, LLC.

Description: Compliance filing: Joint OATT Further Compliance Filing for Order No. 845 to be effective 5/22/2019.

Filed Date: 2/14/20.

Accession Number: 20200214-5064.

Comments Due: 5 p.m. ET 3/6/20.

Docket Numbers: ER20-396-001.

Applicants: Evergy Kansas Central, Inc.

Description: Tariff Amendment: Response to Letter Requesting Additional Information to be effective 6/28/2018.Filed Date: 2/13/20.

Accession Number: 20200213-5166.

Comments Due: 5 p.m. ET 3/5/20.

Docket Numbers: ER20-1003-000.

Applicants: PJM Interconnection, L.L.C.

Description: § 205(d) Rate Filing: Original ISA, SA No. 5564 and Original ICSA, SA No. 5565; Queue No. AA2-161 to be effective 1/16/2020.

Filed Date: 2/14/20.

Accession Number: 20200214-5038.

Comments Due: 5 p.m. ET 3/6/20.

Docket Numbers: ER20-1004-000.

Applicants: ORNI 37 LLC.

Description: Request for Limited Waiver, et al. of ORNI 37 LLC.

Filed Date: 2/13/20.

Accession Number: 20200213-5193.

Comments Due: 5 p.m. ET 3/5/20.

Docket Numbers: ER20-1005-000.

Applicants: Thunder Spirit Wind, LLC.

Description: Tariff Cancellation: Cancellation of Market-Based Rate Tariff to be effective 2/15/2020.

Filed Date: 2/14/20.

Accession Number: 20200214-5073.

Comments Due: 5 p.m. ET 3/6/20.

Docket Numbers: ER20-1006-000.

Applicants: DATC Path 15, LLC.

Description: § 205(d) Rate Filing: Revised Appendix I 2020 June to be effective 6/13/2020.

Filed Date: 2/14/20.

Accession Number: 20200214-5077.

Comments Due: 5 p.m. ET 3/6/20.

Docket Numbers: ER20-1007-000.

Applicants: Midcontinent Independent System Operator, Inc.

Description: § 205(d) Rate Filing: 2020-02-14_SA 3082 Madison Gas and Electric-SMMPA 1st Rev GIA (J614) to be effective 1/30/2020.

Filed Date: 2/14/20.

Accession Number: 20200214-5088.

Comments Due: 5 p.m. ET 3/6/20.

Docket Numbers: ER20-1009-000.

Applicants: PJM Interconnection, L.L.C.

Description: § 205(d) Rate Filing: Revisions to the Tariff and OA re Enhancements to PJM's FTR Auction Process to be effective 4/15/2020.

Filed Date: 2/14/20.

Accession Number: 20200214-5104.

Comments Due: 5 p.m. ET 3/6/20.

Docket Numbers: ER20-1010-000.

Applicants: PJM Interconnection, L.L.C.

Description: § 205(d) Rate Filing: Original ISA SA No. 5527; Non-Queue No. NQ165 to be effective 1/15/2020.

Filed Date: 2/14/20.

Accession Number: 20200214-5106.

Comments Due: 5 p.m. ET 3/6/20.

Docket Numbers: ER20-1011-000.

Applicants: PJM Interconnection, L.L.C.

Description: § 205(d) Rate Filing: Amendment to ISA, Service Agreement No. 1131, Non-Queue #NQ122 to be effective 6/2/2015.

Filed Date: 2/14/20.

Accession Number: 20200214-5108.

Comments Due: 5 p.m. ET 3/6/20.

Docket Numbers: ER20-1012-000.

Applicants: Southern California Edison Company.

Description: § 205(d) Rate Filing: Amended GIA Windpower Partners 1993, LLC, Renwind Project SA No. 375 to be effective 2/15/2020.

Filed Date: 2/14/20.

Accession Number: 20200214-5121.

Comments Due: 5 p.m. ET 3/6/20.

Docket Numbers: ER20-1013-000.

Applicants: PJM Interconnection, L.L.C.

Description: Tariff Cancellation: Notice of Cancellation of ISA, Service Agreement No. 3645, Queue No. Y1-077 to be effective 12/18/2019.

Filed Date: 2/14/20.

Accession Number: 20200214-5172.

Comments Due: 5 p.m. ET 3/6/20.

Docket Numbers: ER20-1014-000.

Applicants: Cove Mountain Solar, LLC.

Description: Baseline eTariff Filing: Application for Market-Based Rate Authority to be effective 4/9/2020.

Filed Date: 2/14/20.

Accession Number: 20200214-5173.

Comments Due: 5 p.m. ET 3/6/20.

Docket Numbers: ER20-1015-000.

Applicants: Cove Mountain Solar 2, LLC.

Description: Baseline eTariff Filing: Application for Market-Based Rate Authority to be effective 4/9/2020.

Filed Date: 2/14/20.

Accession Number: 20200214-5177.

Comments Due: 5 p.m. ET 3/6/20.

Docket Numbers: ER20-1016-000.

Applicants: Cove Mountain Solar, LLC.

Description: § 205(d) Rate Filing: Filing of Shared Facilities Common Ownership Agreement and Request for Waivers to be effective 4/9/2020.

Filed Date: 2/14/20.

Accession Number: 20200214-5180.

Comments Due: 5 p.m. ET 3/6/20.

Docket Numbers: ER20-1017-000.

Applicants: Cove Mountain Solar 2, LLC.

Description: Initial rate filing: Filing of Shared Facilities Common Ownership Agreement and Request for Waivers to be effective 4/9/2020.

Filed Date: 2/14/20.

Accession Number: 20200214-5181.

Comments Due: 5 p.m. ET 3/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 14, 2020.
Kimberly D. Bose,
Secretary.

[FR Doc. 2020-03796 Filed 2-25-20; 8:45 am]

BILLING CODE 6717-01-P